DEPARTMENT OF ENERGY

Federal Energy Regulatory Commission

Notice of Meeting, Notice of Vote, Explanation of Action Closing Meeting and List of Persons To Attend

The following notice of meeting is published pursuant to Section 3(a) of the Government in the Sunshine Act (Pub. L. 94-409), 5 U.S.C. 552b:

Agency Holding Meeting: Federal Energy Regulatory Commission.

Date And Time: October 21, 2015, 11:30 a.m.

Place: Restricted Area, 888 First Street NE., Washington, DC 20426.

Status: Closed.

Matters To Be Considered: Non-Public Investigations and Inquiries, Enforcement Related Matters.

Contact Person For More Information: Kimberly D. Bose, Secretary, Telephone (202) 502-8400.

Chairman Bay and Commissioners Moeller, LaFleur, Clark, and Honorable voted to hold a closed meeting on less than the seven days' notice required by the Government in the Sunshine Act. The certification of the General Counsel explaining the action closing the meeting is available for public inspection in the Commission's Public Reference Room at 888 First Street NE., Washington, DC 20426.

The Chairman and the Commissioners, their assistants, the Commission's Secretary, the General Counsel and members of his staff, and members of the Nuclear Regulatory Commission are expected to attend the meeting. Other staff members from the Commission's program offices who will advise the Commissioners in the matters discussed will also be present.

Dated: October 20, 2015.
Kimberly D. Bose,
Secretary.

[FR Doc. 2015-27178 Filed 10-26-15; 8:45 am]

BILLING CODE 6717-01-P